DEPARTMENT OF LABOR

Employment and Training Administration

[TA-W-59,175]

Q-Edge Corporation Also Known as Foxconn/Q-Edge Corporation, Ontario, CA; Notice of Termination of Investigation

Pursuant to section 221 of the Trade Act of 1974, an investigation was initiated on April 7, 2006, in response to a petition filed by the Employment Development Department of State of California on behalf of workers at Q-Edge Corporation, also know as Foxconn/Q-Edge Corporation, Ontario, California.

This petitioner group of workers is covered by an active certification, (TA-W-58,327) which expires on January 5, 2008. Consequently, further investigation in this case would serve no purpose, and the investigation has been terminated.

Signed in Washington, DC this 12th day of May 2006.
Elliott S. Kushner,
Certifying Officer, Division of Trade Adjustment Assistance.

[FR Doc. E6-8058 Filed 5-24-06; 8:45 am]

BILLING CODE 4510-30-P